DEPARTMENT OF HEALTH AND HUMAN SERVICES

Health Resources and Services Administration

Agency Information Collection Activities: Proposed Collection: Public Comment Request Health Center Workforce Survey OMB No. 0906-XXXX-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 10, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Health Center Workforce Survey OMB No. 0906-XXXX-New.

Abstract: The Health Center Program, authorized by section 330 of the Public Health Service Act, 42 U.S.C. 254b, and administered by HRSA, Bureau of Primary Health Care, supports the provision of community-based preventive and primary health care services to millions of medically underserved and vulnerable people. Health centers employ over 400,000 health care staff (i.e., physicians, medical, dental, mental and behavioral health, vision services, pharmacy, enabling services, quality improvement, and facility and non-clinical support staff.)

Provider and non-provider staff well-being is essential to recruiting and retaining staff, thus supporting access to quality health care and services through the Health Center Program. HRSA has created a nationwide Health Center Workforce Survey to identify and address challenges related to provider and staff well-being. The survey will be administered to all full-time and part-time health center staff in the fall of 2022 to identify conditions and circumstances that affect staff well-being at HRSA-funded health centers, including the scope and nature of workforce well-being, job satisfaction, and burnout. This information can inform efforts to improve workforce well-being and maintain high-quality patient care.

The Health Center Workforce Survey aims to collect and analyze data from no less than 85 percent of health center staff. HRSA will utilize stakeholder engagement strategies to support survey completion targets. The HRSA contractor will request email addresses for all health center staff from health center leadership. Using the email addresses provided, the contractor will administer the online survey to ensure data quality and respondent confidentiality. Participation in the Health Center Workforce Survey is voluntary for all health center staff. The contractor will analyze the responses and provide analytic reports. HRSA will disseminate the summary level data for public use, including preparing preliminary findings and analytic reports.

Need and Proposed Use of the Information: Health care workforce burnout has been a challenge even prior to COVID-19 and other recent public health crises. Clinicians and health care staff have reported experiencing alarming rates of burnout, characterized as a high degree of emotional exhaustion, depersonalization, and a low sense of personal accomplishment at work.¹ Understanding the factors impacting workforce well-being and satisfaction, reducing burnout, and applying evidence-based technical assistance and other quality improvement strategies around workforce well-being is essential as the health center program health care workforce continues to respond to and recover from the COVID-19 pandemic and prepare for future health care delivery challenges.

¹ West, C.P., Dyrbye, L.N., Satele, D.V, Sloan, J.A., & Shanafelt, T.D. (2012). Concurrent validity of single-item measures of emotional exhaustion and depersonalization in burnout assessment. J Gen Intern Med, 27 (11 PG-1445-52), 1445-1452. https://doi.org/10.1007/s11606-012-2015-7.

Administration of the Health Center Workforce Survey will provide a comprehensive baseline assessment of health center workforce well-being and identify opportunities to improve workforce well-being and bolster technical assistance and other strategies. These efforts will further HRSA's goal of providing access to quality health care and supporting a robust primary care workforce.

Likely Respondents: Health center staff in HRSA-funded health centers.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Health Center Workforce Survey | 400,000 | 1 | 400,000 | .50 | 200,000
Health Center Leader Support Activities | 1,400 | 1 | 1,400 | 2.00 | 2,800
| 401,400 |  | 401,400 |  | 202,800

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-05077 Filed 3-10-22; 8:45 am]

BILLING CODE 4165-15-P